ENVIRONMENTAL PROTECTION AGENCY

[FRL-6903-8]

Agency Information Collection Activities: Proposed Collection; Comment Request; Application for Reimbursement to Local Governments for Emergency Response to Hazardous Substance Releases Under CERCLA Section 123

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Application for Reimbursement to Local Governments for Emergency Response to Hazardous Substance Releases Under CERCLA Section 123, EPA ICR #1424.04, OMB Control #2050-0077 which will expire on March 1, 2001. Before submitting the ICR to OMB for review and approval, EPA is soliciting comments on specific aspects of the proposed information collection as described below.

DATES: Comments must be submitted on or before December 4, 2000.

ADDRESSES: Mail comments on specific aspects of this renewal of the information collection to Local Governments Reimbursement Project Officer, Office of Emergency and Remedial Response (5204-G), U.S. Environmental Protection Agency, 1200 Pennsylvania Avenue, Washington, DC, 20460. You may review the draft renewal information collection form and the instrument from 8:30 am to 5:30 pm, Monday through Friday by visiting Public Docket No. LGR, located at 1235 Jefferson Davis Highway, (ground floor) Arlington, VA. A reasonable fee my be charged for copying docket material.

Electronic or fax versions of this material may be obtained by calling Lisa Boynton on (703) 603-9052 and leaving an email address or fax number, or by emailing Boynton.Lisa@epa.gov.

FOR FURTHER INFORMATION CONTACT: Lisa Boynton, (703) 603-9052, Local Governments Reimbursement Project Officer, Office of Emergency and Remedial Response (5204-G), U.S. Environmental Protection Agency, 1200 Pennsylvania Avenue, Washington, DC 20460.

SUPPLEMENTARY INFORMATION:

Affected entities: Entities potentially affected by this action are Local Governments that apply for reimbursement under this program.

Title: Application for Reimbursement to Local Governments for Emergency Response to Hazardous Substance Releases Under CERCLA section 123, EPA ICR #1424.04, OMB Control #2050-0077 which will expire on March 1, 2001.

Abstract: The Agency requires applicants for reimbursement under this program authorized under section 123 of CERCLA to submit an application that demonstrates consistency with program eligibility requirements. This is necessary to ensure proper use of the Superfund. EPA reviews the information to ensure compliance with all statutory and program requirements. The applicants are local governments who have incurred expenses, above and beyond their budgets, for hazardous substance response. Submission of this information is voluntary and to the applicant's benefit. An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement:

Burden item | Average hours per application
Read Instructions ᵃ | 1
Gather Information ᵇ | 3
Compile Information ᶜ | 3
Complete Application ᵈ | 1
File and Maintain Information ᵉ | 1
Total Estimated Burden Hours Per Application | 9
Total Estimated Number of Applications Submitted by All Applicants per Year | × 200
Total Estimated Annual Burden Hours | 1800
Total Estimated Cost Burden to Responders ᶠ | $ 23,300
ᵃ Time to read or hear instructions. This includes the time which will be needed by applicants to familiarize themselves with the requirements for requesting reimbursement and the instructions for completing the application form.
ᵇ Time to gather information. This includes the time necessary to collect various reports from files and extract pertinent information and find additional reference materials and information.
ᶜ Time to compile information. This includes the time necessary to assemble information specific to the response for which reimbursement is being sought. This may include interviewing first responders and ascertaining the number of work-hours involved in the response.
ᵈ Time to complete application. This includes the time required to enter the pertinent information on the application form in accordance with the line-by-line instructions.
ᵉ Time to file and maintain information. This includes the time needed for preparing file folders, indexes, and filing.
ᶠ Estimated hourly rate is $18.50. This estimate takes into consideration that the application may be prepared by a secretary, Fire Chief, County Clerk, Health Professional, or other administrative staff.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 2, 2000.
Larry Reed,
Acting Director, Office of Emergency and Remedial Response.

[FR Doc. 00-29506 Filed 11-16-00; 8:45 am]

BILLING CODE 6560-50-P